DEPARTMENT OF TRANSPORTATION

Federal Aviation Administration

14 CFR Part 71

[Docket No. FAA-2021-0648; Amendment No. 71-53]

RIN 2120-AA66

Airspace Designations; Incorporation by Reference Amendments

AGENCY: Federal Aviation Administration (FAA), DOT.

ACTION: Final rule, administrative correction.

SUMMARY: This action incorporates certain airspace designation amendments into FAA Order JO 7400.11F, dated August 10, 2021, and effective September 15, 2021, for incorporation by reference.

DATES: Effective date 0901 UTC November 24, 2021. The Director of the Federal Register approves this incorporation by reference action under 1 CFR part 51, subject to the annual revision of FAA Order JO 7400.11 and publication of conforming amendments.

ADDRESSES: FAA Order JO 7400.11F, Airspace Designations and Reporting Points, and subsequent amendments can be viewed on line at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Sarah A. Combs, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order JO 7400.11, Airspace Designations and Reporting Points, incorporated by reference in 14 CFR 71.1, is published yearly. Amendments referred to as “effective date straddling amendments” were published under Order JO 7400.11E (dated July 21, 2020, and effective September 15, 2020) but became effective under Order JO 7400.11F (dated August 10, 2021, and effective September 15, 2021). This action incorporates these rules into the current FAA Order JO 7400.11F.

Accordingly, as this is an administrative correction to update final rule amendments into FAA Order JO 7400.11F, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by incorporating certain final rules into the current FAA Order JO 7400.11F, Airspace Designations and Reporting Points, dated August 10, 2021, and effective September 15, 2021, which are depicted on aeronautical charts.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Corrections

1. For Docket No. FAA-2021-0226; Airspace Docket No. 20-AAL-2 (86 FR 43589; August 10, 2021)

Correction

a. On page 43589, column 1, line 43, and column 2, line 1, under ADDRESSES, “. . . FAA Order 7400.11E . . .” is corrected to read “. . . FAA Order JO 7400.11F . . .”.

b. On page 43589, column 3, line 7, and line 10, under Availability and Summary of Documents for Incorporation by Reference, “. . . FAA Order 7400.11E . . .” is corrected to read “. . . FAA Order JO 7400.11F . . .”.

c. On page 43589, column 2, line 52, under History, “. . . FAA Order 7400.11E, dated July 21, 2020, and effective September 15, 2020, . . .” is corrected to read “. . . FAA Order JO 7400.11F, dated August 10, 2021, and effective September 15, 2021 . . .”.

d. On page 43589, column 3, line 4, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 43590, column 1, line 42, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

2. For Docket No. FAA-2021-0275; Airspace Docket No. 20-AAL-39 (86 FR 43911; August 11, 2021)

Correction

a. On page 43911, column 3, line 31, and line 44, under ADDRESSES, “. . . FAA Order 7400.11E . . .” is corrected to read “. . . FAA Order JO 7400.11F . . .”.

b. On page 43912, column 1, line 47, and line 50, under Availability and Summary of Documents for Incorporation by Reference, “. . . FAA Order 7400.11E . . .” is corrected to read “. . . FAA Order JO 7400.11F . . .”.

c. On page 43912, column 1, line 35, under History, “. . . FAA Order 7400.11E, dated July 21, 2020, and effective September 15, 2020, . . .” is corrected to read “. . . FAA Order JO 7400.11F, dated August 10, 2021, and effective September 15, 2021 . . .”.

d. On page 43912, column 1, line 44, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 43912, column 3, line 37, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

3. For Docket No. FAA-2021-0002; Airspace Docket No. 21-ASW-3 (86 FR 45630; August 16, 2021)

Correction

a. On page 45630, column 1, line 26, and line 39, under ADDRESSES, “. . . FAA Order 7400.11E . . .” is corrected to read “. . . FAA Order JO 7400.11F . . .”.

b. On page 45630, column 2, line 39, and line 42, under Availability and Summary of Documents for Incorporation by Reference, “. . . FAA Order 7400.11E . . .” is corrected to read “. . . FAA Order JO 7400.11F . . .”.

c. On page 45630, column 2, line 26, under History, “. . . FAA Order 7400.11E, dated July 21, 2020, and effective September 15, 2020, . . .” is corrected to read “. . . FAA Order JO 7400.11F, dated August 10, 2021, and effective September 15, 2021 . . .”.

d. On page 45630, column 2, line 36, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 45630, column 3, line 56, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

4. For Docket No. FAA-2020-0889; Airspace Docket No. 20-ASO-25 (86 FR 46774; August 20, 2021)

Correction

a. On page 46774, column 1, line 56, under History, “. . . FAA Order 7400.11E, dated July 21, 2020, and effective September 15, 2020, . . .” is corrected to read “. . . FAA Order JO 7400.11F, dated August 10, 2021, and effective September 15, 2021 . . .”.

§ 71.1 [Corrected]

b. On page 46774, column 3, line 12, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

5. For Docket No. FAA-2021-0075; Airspace Docket No. 21-ASO-2 (86 FR 48018; August 27, 2021)

Correction

a. On page 48019, column 1, line 1, and line 14, under ADDRESSES, “. . . FAA Order 7400.11E . . .” is corrected to read “. . . FAA Order JO 7400.11F . . .”.

b. On page 48019, column 1, line 16, and line 19, under Availability and Summary of Documents for Incorporation by Reference, “. . . FAA Order 7400.11E . . .” is corrected to read “. . . FAA Order JO 7400.11F . . .”.

c. On page 48019, column 2, line 3, under History, “. . . FAA Order 7400.11E, dated July 21, 2020, and effective September 15, 2020, . . .” is corrected to read “. . . FAA Order JO 7400.11F, dated August 10, 2021, and effective September 15, 2021 . . .”.

d. On page 48019, column 2, line 13, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 48019, column 3, line 40, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

6. For Docket No. FAA-2021-0171; Airspace Docket No. 21-ASO-4 (86 FR 48495; August 31, 2021)

Correction

a. On page 48495, column 3, line 19, and line 32, under ADDRESSES, “. . . FAA Order 7400.11E . . .” is corrected to read “. . . FAA Order JO 7400.11F . . .”.

b. On page 48496, column 1, line 31, and line 34, under Availability and Summary of Documents for Incorporation by Reference, “. . . FAA Order 7400.11E . . .” is corrected to read “. . . FAA Order JO 7400.11F . . .”.

c. On page 48496, column 1, line 18, under History, “. . . FAA Order 7400.11E, dated July 21, 2020, and effective September 15, 2020, . . .” is corrected to read “. . . FAA Order JO 7400.11F, dated August 10, 2021, and effective September 15, 2021 . . .”.

d. On page 48496, column 1, line 28, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 36211, column 2, line 56, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

7. For Docket No. FAA-2021-0424; Airspace Docket No. 21-ACE-13 (86 FR 49917; September 7, 2021)

Correction

a. On page 49917, column 2, line 46, and line 59, under ADDRESSES, “. . . FAA Order 7400.11E . . .” is corrected to read “. . . FAA Order JO 7400.11F . . .”.

b. On page 49917, column 3, line 52, and line 55, under Availability and Summary of Documents for Incorporation by Reference, “. . . FAA Order 7400.11E . . .” is corrected to read “. . . FAA Order JO 7400.11F . . .”.

c. On page 49917, column 3, line 39, under History, “. . . FAA Order 7400.11E, dated July 21, 2020, and effective September 15, 2020, . . .” is corrected to read “. . . FAA Order JO 7400.11F, dated August 10, 2021, and effective September 15, 2021 . . .”.

d. On page 49917, column 3, line 49, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 49918, column 2, line 6, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

8. For Docket No. FAA-2021-0472; Airspace Docket No. 21-AEA-9 (86 FR 49919; September 7, 2021)

Correction

a. On page 49919, column 3, line 27, and line 40, under ADDRESSES, “. . . FAA Order 7400.11E . . .” is corrected to read “. . . FAA Order JO 7400.11F . . .”.

b. On page 49920, column 1, line 42, and line 45, under Availability and Summary of Documents for Incorporation by Reference, “. . . FAA Order 7400.11E . . .” is corrected to read “. . . FAA Order JO 7400.11F . . .”.

c. On page 49920, column 1, line 29, under History, “. . . FAA Order 7400.11E, dated July 21, 2020, and effective September 15, 2020, . . .” is corrected to read “. . . FAA Order JO 7400.11F, dated August 10, 2021, and effective September 15, 2021 . . .”.

d. On page 49920, column 1, line 39, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 49920, column 2, line 54, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

9. For Docket No. FAA-2021-0278; Airspace Docket No. 21-ACE-10 (86 FR 49918; September 7, 2021)

Correction

a. On page 49918, column 3, line 1, and line 14, under ADDRESSES, “. . . FAA Order 7400.11E . . .” is corrected to read “. . . FAA Order JO 7400.11F . . .”.

b. On page 49919, column 1, line 15, and line 18, under Availability and Summary of Documents for Incorporation by Reference, “. . . FAA Order 7400.11E . . .” is corrected to read “. . . FAA Order JO 7400.11F . . .”.

c. On page 49918, column 3, line 63, under History, “. . . FAA Order 7400.11E, dated July 21, 2020, and effective September 15, 2020, . . .” is corrected to read “. . . FAA Order JO 7400.11F, dated August 10, 2021, and effective September 15, 2021 . . .”.

d. On page 49919, column 1, line 12, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 49919, column 2, line 32, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

10. For Docket No. FAA-2021-0161; Airspace Docket No. 21-ASW-5 (86 FR 50244; September 8, 2021)

Correction

a. On page 50244, column 3, line 8, and line 21, under ADDRESSES, “. . . FAA Order 7400.11E . . .” is corrected to read “. . . FAA Order JO 7400.11F . . .”.

b. On page 50245, column 1, line 17, and line 20, under Availability and Summary of Documents for Incorporation by Reference, “. . . FAA Order 7400.11E . . .” is corrected to read “. . . FAA Order JO 7400.11F . . .”.

c. On page 50245, column 1, line 4, under History, “. . . FAA Order 7400.11E, dated July 21, 2020, and effective September 15, 2020, . . .” is corrected to read “. . . FAA Order JO 7400.11F, dated August 10, 2021, and effective September 15, 2021 . . .”.

d. On page 50245, column 1, line 14, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 50245, column 2, line 32, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

11. For Docket No. FAA-2021-0169; Airspace Docket No. 21-ASO-3 (86 FR 50245; September 8, 2021)

Correction

a. On page 50245, column 3, line 46, and line 59, under ADDRESSES, “. . . FAA Order 7400.11E . . .” is corrected to read “. . . FAA Order JO 7400.11F . . .”.

b. On page 50246, column 1, line 66, and column 2 line 3, under Availability and Summary of Documents for Incorporation by Reference, “. . . FAA Order 7400.11E . . .” is corrected to read “. . . FAA Order JO 7400.11F . . .”.

c. On page 50246, column 1, line 53, under History, “. . . FAA Order 7400.11E, dated July 21, 2020, and effective September 15, 2020, . . .” is corrected to read “. . . FAA Order JO 7400.11F, dated August 10, 2021, and effective September 15, 2021 . . .”.

d. On page 50246, column 1, line 63, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 50246, column 3, line 58, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

12. For Docket No. FAA-2021-0277; Airspace Docket No. 21-AGL-19 (86 FR 50248; September 8, 2021)

Correction

a. On page 50249, column 1, line 12, and line 25, under ADDRESSES, “. . . FAA Order 7400.11E . . .” is corrected to read “. . . FAA Order JO 7400.11F . . .”.

b. On page 50249, column 2, line 22, and line 25, under Availability and Summary of Documents for Incorporation by Reference, “. . . FAA Order 7400.11E . . .” is corrected to read “. . . FAA Order JO 7400.11F . . .”.

c. On page 50249, column 2, line 9, under History, “. . . FAA Order 7400.11E, dated July 21, 2020, and effective September 15, 2020, . . .” is corrected to read “. . . FAA Order JO 7400.11F, dated August 10, 2021, and effective September 15, 2021 . . .”.

d. On page 50249, column 2, line 19, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 50249, column 3, line 34, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

13. For Docket No. FAA-2021-0235; Airspace Docket No. 21-AGL-18 (86 FR 50453; September 9, 2021)

Correction

a. On page 50453, column 2, line 27, and line 40, under ADDRESSES, “. . . FAA Order 7400.11E . . .” is corrected to read “. . . FAA Order JO 7400.11F . . .”.

b. On page 50453, column 3, line 38, and line 41, under Availability and Summary of Documents for Incorporation by Reference, “. . . FAA Order 7400.11E . . .” is corrected to read “. . . FAA Order JO 7400.11F . . .”.

c. On page 50453, column 3, line 25, under History, “. . . FAA Order 7400.11E, dated July 21, 2020, and effective September 15, 2020, . . .” is corrected to read “. . . FAA Order JO 7400.11F, dated August 10, 2021, and effective September 15, 2021 . . .”.

d. On page 50453, column 3, line 35, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 50454, column 1, line 50, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

14. For Docket No. FAA-2021-0160; Airspace Docket No. 21-ACE-7 (86 FR 50250; September 8, 2021)

Correction

a. On page 50250, column 1, line 26, and line 39, under ADDRESSES, “. . . FAA Order 7400.11E . . .” is corrected to read “. . . FAA Order JO 7400.11F . . .”.

b. On page 50250, column 2, line 39, and line 42, under Availability and Summary of Documents for Incorporation by Reference, “. . . FAA Order 7400.11E . . .” is corrected to read “. . . FAA Order JO 7400.11F . . .”.

c. On page 50250, column 2, line 26, under History, “. . . FAA Order 7400.11E, dated July 21, 2020, and effective September 15, 2020, . . .” is corrected to read “. . . FAA Order JO 7400.11F, dated August 10, 2021, and effective September 15, 2021 . . .”.

d. On page 50250, column 2, line 36, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 50250, column 3, line 53, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . . ”.

15. For Docket No. FAA-2021-0159; Airspace Docket No. 21-ACE-6 (86 FR 50247; September 8, 2021)

Correction

a. On page 50247, column 3, line 55, and on page 50248, column 1, line 6, under ADDRESSES, “. . . FAA Order 7400.11E . . .” is corrected to read “. . . FAA Order JO 7400.11F . . .”.

b. On page 50248, column 2, line 2, and line 5, under Availability and Summary of Documents for Incorporation by Reference, “. . . FAA Order 7400.11E . . .” is corrected to read “. . . FAA Order JO 7400.11F . . .”.

c. On page 50248, column 1, line 55, under History, “. . . FAA Order 7400.11E, dated July 21, 2020, and effective September 15, 2020, . . .” is corrected to read “. . . FAA Order JO 7400.11F, dated August 10, 2021, and effective September 15, 2021 . . .”.

d. On page 50248, column 1, line 64, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021, . . .”.

§ 71.1 [Corrected]

e. On page 50248, column 3, line 18, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021, . . .”.

16. For Docket No. FAA-2021-0529; Airspace Docket No. 21-ASO-18 (86 FR 50614; September 10, 2021)

Correction

a. On page 50614, column 2, line 34, and line 47, under ADDRESSES, “. . . FAA Order 7400.11E . . .” is corrected to read “. . . FAA Order JO 7400.11F . . .”.

b. On page 50614, column 3, line 46, and line 49, under Availability and Summary of Documents for Incorporation by Reference, “. . . FAA Order 7400.11E . . .” is corrected to read “. . . FAA Order JO 7400.11F . . .”.

c. On page 50614, column 3, line 33, under History, “. . . FAA Order 7400.11E, dated July 21, 2020, and effective September 15, 2020, . . .” is corrected to read “. . . FAA Order JO 7400.11F, dated August 10, 2021, and effective September 15, 2021 . . .”.

d. On page 50614, column 3, line 43, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021 . . .”.

§ 71.1 [Corrected]

e. On page 50615, column 1, line 56, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021 . . .”.

17. For Docket No. FAA-2021-0471; Airspace Docket No. 21-AGL-25 (86 FR 50842; September 13, 2021)

Correction

a. On page 50842, column 2, line 42, and line 55, under ADDRESSES, “. . . FAA Order 7400.11E . . .” is corrected to read “. . . FAA Order JO 7400.11F . . .”.

b. On page 50842, column 3, line 33, and line 36, under Availability and Summary of Documents for Incorporation by Reference, “. . . FAA Order 7400.11E . . .” is corrected to read “. . . FAA Order JO 7400.11F . . .”.

c. On page 50842, column 3, line 20, under History, “. . . FAA Order 7400.11E, dated July 21, 2020, and effective September 15, 2020, . . .” is corrected to read “. . . FAA Order JO 7400.11F, dated August 10, 2021, and effective September 15, 2021 . . .”.

d. On page 50842, column 3, line 30, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021 . . .”.

§ 71.1 [Corrected]

e. On page 50843, column 1, line 56, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021 . . .”.

18. For Docket No. FAA-2021-0069; Airspace Docket No. 21-ASO-1 (86 FR 50843; September 13, 2021)

Correction

a. On page 50843, column 2, line 45, and line 58, under ADDRESSES, “. . . FAA Order 7400.11E . . .” is corrected to read “. . . FAA Order JO 7400.11F . . .”.

b. On page 50843, column 3, line 61, and line 64, under Availability and Summary of Documents for Incorporation by Reference, “. . . FAA Order 7400.11E . . .” is corrected to read “. . . FAA Order JO 7400.11F . . .”.

c. On page 50843, column 3, line 48, under History, “. . . FAA Order 7400.11E, dated July 21, 2020, and effective September 15, 2020, . . .” is corrected to read “. . . FAA Order JO 7400.11F, dated August 10, 2021, and effective September 15, 2021 . . .”.

d. On page 50843, column 3, line 58, under Availability and Summary of Documents for Incorporation by Reference, “. . . FAA Order 7400.11E Airspace Designations and Reporting Points, dated July 21, 2020, and effective September 15, 2020, . . .” is corrected to read “. . . FAA Order JO 7400.11F, Airspace Designations and Reporting Points, dated August 10, 2021, and effective September 15, 2021 . . .”.

§ 71.1 [Corrected]

e. On page 50844, column 2, line 6, under Amendatory Instruction 2, “. . . FAA Order 7400.11E, Airspace Designations and Reporting Points, dated July 21, 2020, and effective September 15, 2020, . . .” is corrected to read “. . . FAA Order JO 7400.11F, Airspace Designations and Reporting Points, dated August 10, 2021, and effective September 15, 2021 . . .”.

Issued in Washington, DC on November 17, 2021.
Michael R. Beckles,
Acting Manager, Rules and Regulations Group.

[FR Doc. 2021-25495 Filed 11-23-21; 8:45 am]

BILLING CODE 4910-13-P